FEDERAL RESERVE SYSTEM

Agency Information Collection Activities: Announcement of Board Approval Under Delegated Authority and Submission to OMB

In notice document 00-32911, beginning on page 81864, in the issue of Wednesday, December 27, 2000, the Federal Reserve discussed revisions to its structure reporting requirements for both domestic and foreign banking organizations. This notice listed the implementation date for the new event-generated structure reports, the Report of Changes in Organizational Structure and the Report of Changes in FBO Organizational Structure (FR Y-10 and FR Y-10F; OMB No. 7100-0297), as June 1, 2001. The Federal Reserve has postponed the implementation date for these new forms to September 1, 2001, to allow institutions more time to prepare their systems for these reporting changes. For all event-generated structure reports filed prior to September 1, 2001, institutions should continue using the Changes in Investments and Activities of Top-Tier Financial Holding Companies, Bank Holding Companies, and State Member Banks (FR Y-6A; OMB No. 7100-0124) and the Foreign Banking Organization Structure Report on U.S. Banking and Nonbanking Activities (FR Y-7A; OMB No. 7100-0125). For reports that represent transactions occurring prior to September 1 and that are filed after September 1, institutions may use either the current or the new forms. For reports representing transactions that occur after September 1, institutions must use the new FR Y-10 and FR Y-10F reporting forms.

The Federal Reserve has also postponed the discontinuance of the Changes in Foreign Investments Made Pursuant to Regulation K (FR 2064; OMB No. 7100-0109) until September 1, 2001. The implementation date for revisions to the Annual Report of Bank Holding Companies (FR Y-6; OMB No. 7100-0124) and the Annual Report of Foreign Banking Organizations (FR Y-7; OMB No. 7100-0125) remains December 31, 2001.

In addition, the Federal Reserve will offer a new Internet-based tool to facilitate filing the FR Y-10 and FR Y-10F. This Internet-based tool will be available on September 1 for the FR Y-10 and in early 2002 for the FR Y-10F. Institutions will receive detailed information about this new online tool from their Reserve Banks closer to the implementation date.

The Federal Reserve will post the new FR Y-10 and FR Y-10F forms on the Board's public web site during the week of May 14, 2001, at http://www.federalreserve.gov/ under the section for Reporting Forms and then under Information collections under review. The FR Y-6 and FR Y-7 forms will be posted on this site later this year.

FOR FURTHER INFORMATION CONTACT: Federal Reserve Board Clearance Officer—Mary M. West—Division of Research and Statistics, Board of Governors of the Federal Reserve System, Washington, DC 20551 (202-452-3829).

Board of Governors of the Federal Reserve System, May 9, 2001.
Jennifer J. Johnson,
Secretary of the Board.

[FR Doc. 01-12168 Filed 5-14-01; 8:45 am]

BILLING CODE 6210-01-P